DEPARTMENT OF HEALTH AND HUMAN SERVICES

Administration for Children and Families

Notice for June 2003 Advisory Committee Meeting

AGENCY: Administration on Children, Youth and Families, ACF, DHHS.

ACTION: Notice of meeting; Advisory Committee on Head Start Research and Evaluation.

SUMMARY: The 1998 Head Start Reauthorization (42 U.S.C. 9844(g); section 649(g)(1) of the Head Start Act, as amended) called on the Secretary of Health and Human Services to form an independent panel of experts (i.e., an Advisory Committee) to offer advice concerning research designs that would provide a national analysis of the impact of Head Start Programs. The June 16 and 17 meeting provides an opportunity for the Advisory Committee to receive an update on the design and implementation plans for the study.

DATES: June 16, 2003, 9 a.m.-5 p.m. June 17, 2003, 9 a.m.-4 p.m.

Place: Loews L'Enfant Plaza Hotel, 480 L'Enfant Plaza, Washington, DC 20024. Telephone 202-484-1000. Fax: 202-646-4456.

SUPPLEMENTARY INFORMATION: This meeting is open to the public and is barrier free. Meeting records will also be open to the public and will be kept at the Switzer Building located at 330 C Street, SW., Washington, DC 20447. The Head Start Bureau also intends to make material related to this meeting available on the Head Start Web site (http://www.acf.hhs.gov/programs/hsb/research/hsreac/index.htm). An interpreter for the deaf and hearing impaired will be available upon advance request by calling Xtria at 703-821-3090 (ext. 265).

FOR FURTHER INFORMATION CONTACT: Michael L. Lopez, Ph.D. at 202-205-8212 for substantive information. ACF Office of Public Affairs at 202-401-9215 for press inquiries. Xtria at 703-821-3090 (ext. 265) for logistical information.

Dated: May 13, 2003.
Frank Fuentes,
Deputy Commissioner, Administration on Children, Youth and Families.

[FR Doc. 03-12462 Filed 5-16-03; 8:45 am]

BILLING CODE 4184-01-M